DEPARTMENT OF ENERGY

Federal Energy Regulatory Commission

Notice of Meetings

June 20, 2001.

The following notice of meeting is published pursuant to section 3(A) of the Government in the Sunshine Act (Pub. L. No. 94-409), 5 U.S.C. 552B:

AGENCY HOLDING MEETING: Federal Energy Regulatory Commission.

DATE AND TIME: June 27, 2001, 10:00 a.m.

PLACE: Room 2C, 888 First Street, N.E., Washington, D.C. 20426.

STATUS: Open.

MATTERS TO BE CONSIDERED: Agenda.

Note: Items listed on the agenda may be deleted without further notice.

CONTACT PERSON FOR MORE INFORMATION: David P. Boergers, Secretary, Telephone (202) 208-0400 for a recording listing items stricken from or added to the meeting, call (202) 208-1627.

This is a list of matters to be considered by the Commission. It does not include a listing of all papers relevant to the items on the agenda; however, all public documents may be examined in the reference and information center.

770th—Meeting, June 27, 2001; Regular Meeting, 10:00 a.m.

Consent Agenda—Markets, Tariffs and Rates—Electric

CAE-1.

DOCKET# ER01-1900, 000, AMERICAN ELECTRIC POWER SERVICE CORPORATION

CAE-2.

DOCKET# ER01-1945, 000, AMEREN ENERGY MARKETING COMPANY

CAE-3.

DOCKET# ER01-1940, 000, ARIZONA INDEPENDENT SCHEDULING ADMINISTRATOR ASSOCIATION

CAE-4.

DOCKET# ER01-1928, 000, CENTRAL MAINE POWER COMPANY

CAE-5.

DOCKET# ER01-1966, 000, CINERGY SERVICES, INC.

OTHER#S ER00-2998, 001, SOUTHERN COMPANY SERVICES, INC.

ER00-2999, 001, SOUTHERN COMPANY SERVICES, INC.

ER00-3000, 001, SOUTHERN COMPANY SERVICES, INC.

ER00-3001, 001, SOUTHERN COMPANY SERVICES, INC.

CAE-6.

OMITTED

CAE-7.

DOCKET# ER01-1936, 000, PJM INTERCONNECTION, L.L.C.

CAE-8.

DOCKET# ER01-1949, 000, POWER PROVIDER LLC

CAE-9.

DOCKET# ER01-1938, 000, SOUTHERN INDIANA GAS & ELECTRIC COMPANY

CAE-10.

DOCKET# ER01-1944, 000, WESTERN SYSTEMS POWER POOL, INC.

CAE-11.

DOCKET# ER01-1942, 000, NEW YORK INDEPENDENT SYSTEM OPERATOR, INC.

CAE-12.

OMITTED

CAE-13.

DOCKET# ER01-1786, 000, AMEREN SERVICES COMPANY

OTHER#S ER01-1786, 001, AMEREN SERVICES COMPANY

CAE-14.

OMITTED

CAE-15.

OMITTED

CAE-16.

DOCKET# ER01-1771, 000, IDAHO POWER COMPANY

OTHER#S ER01-1771, 001, IDAHO POWER COMPANY

ER01-1771, 002, IDAHO POWER COMPANY

CAE-17.

OMITTED

CAE-18.

DOCKET# ER00-2485, 001, NEW ENGLAND POWER POOL

OTHER#S ER00-2485, 002, NEW ENGLAND POWER POOL

CAE-19.

DOCKET# ER00-3591 006 NEW YORK INDEPENDENT SYSTEM OPERATOR, INC.

OTHER#S ER00-1969 007 NEW YORK INDEPENDENT SYSTEM OPERATOR, INC.

CAE-20.

DOCKET# RT01-2, 000, PJM INTERCONNECTION, L.L.C., ALLEGHENY, ELECTRIC COOPERATIVE, INC., ATLANTIC CITY, ELECTRIC COMPANY, BALTIMORE GAS & ELECTRIC, COMPANY, DELMARVA POWER & LIGHT COMPANY, JERSEY CENTRAL POWER & LIGHT COMPANY, METROPOLITAN EDISON COMPANY, PECO ENERGY COMPANY, PENNSYLVANIA ELECTRIC COMPANY, PPL ELECTRIC UTILITIES CORPORATION, POTOMAC ELECTRIC POWER COMPANY, PUBLIC SERVICE ELECTRIC & GAS COMPANY AND UGI UTILITIES, INC.

CAE-21.

DOCKET# RT01-98, 000, PJM INTERCONNECTION, L.L.C. AND ALLEGHENY POWER

OTHER#S RT01-10, 000, ALLEGHENY POWER

CAE-22.

DOCKET# RT01-95, 000, NEW YORK INDEPENDENT SYSTEM OPERATOR, INC., CENTRAL HUDSON GAS & ELECTRIC CORPORATION, CONSOLIDATED EDISON COMPANY OF NEW YORK, INC., NIAGARA MOHAWK POWER CORPORATION, NEW YORK STATE ELECTRIC & GAS CORPORATION, ORANGE & ROCKLAND UTILITIES, INC. AND ROCHESTER GAS & ELECTRIC CORPORATION

CAE-23.

DOCKET# ER01-1845, 000, PUBLIC SERVICE COMPANY OF NEW MEXICO

OTHER#S ER01-1845, 001, PUBLIC SERVICE COMPANY OF NEW MEXICO

CAE-24.

DOCKET# ER01-2021, 000, ENTERGY SERVICES, INC.

OTHER#S ER01-2106, 000, ENTERGY SERVICES, INC.

CAE-25.

DOCKET# RT01-86, 000, BANGOR HYDRO-ELECTRIC COMPANY, CENTRAL MAINE POWER COMPANY, NATIONAL GRID USA, NORTHEAST UTILITIES SERVICE COMPANY, THE UNITED ILLUMINATING COMPANY, VERMONT ELECTRIC POWER COMPANY AND ISO NEW ENGLAND INC.

OTHER#S RT01-94, 000, NSTAR SERVICES COMPANY

CAE-26.

DOCKET# ER01-463, 003, ARIZONA PUBLIC SERVICE COMPANY

OTHER#S ER01-463, 004, ARIZONA PUBLIC SERVICE COMPANY

CAE-27.

OMITTED

CAE-28.

DOCKET# ER01-368, 002, ISO NEW ENGLAND INC.

CAE-29.

DOCKET# ER01-798, 003, PACIFICORP

CAE-30.

DOCKET# EL94-38, 002, CITIES OF BATAVIA AND ST. CHARLES, ILLINOIS V. COMMONWEALTH EDISON COMPANY

OTHER#S ER94-913, 002, CITIES OF BATAVIA AND ST. CHARLES, ILLINOIS V. COMMONWEALTH EDISON COMPANY

CAE-31.

OMITTED

CAE-32.

DOCKET# ER01-1440, 002, PJM INTERCONNECTION, L.L.C.

CAE-33.

OMITTED

CAE-34.

OMITTED

CAE-35.

DOCKET# EL00-1, 001, AES NY, L.L.C. V NIAGARA MOHAWK POWER CORPORATION

CAE-36.

DOCKET# ER00-2460, 001, NIAGARA MOHAWK POWER CORPORATION

CAE-37.

DOCKET# ER00-2309, 001, ALLEGHENY ENERGY SUPPLY COMPANY, L.L.C., THE POTOMAC EDISON COMPANY AND WEST PENN POWER COMPANY

CAE-38.

OMITTED

CAE-39.

OMITTED

CAE-40.

DOCKET# RT01-67, 002, GRIDFLORIDA LLC, FLORIDA POWER & LIGHT COMPANY, FLORIDA POWER CORPORATION AND TAMPA ELECTRIC COMPANY

CAE-41.

DOCKET# RT01-34, 001, SOUTHWEST POWER POOL, INC. AND ENTERGY SERVICES, INC.

OTHER#S EC99-101, 004, NORTHERN STATES POWER COMPANY (MINNESOTA) AND NEW CENTURY ENERGIES, INC.

RT01-75, 002, SOUTHWEST POWER POOL, INC. AND ENTERGY SERVICES, INC.

CAE-42.

DOCKET# EL01-70, 000, NORTON ENERGY STORAGE, L.L.C.

CAE-43.

DOCKET# NJ01-5, 000, SOUTHWEST TRANSMISSION COOPERATIVE, INC.

CAE-44.

DOCKET# NJ00-7, 000, BASIN ELECTRIC POWER COOPERATIVE, INC.

OTHER#S NJ01-6, 000, BASIN ELECTRIC POWER COOPERATIVE, INC.

CAE-45.

DOCKET# EL01-48, 000, LOCKPORT ENERGY ASSOCIATES, L.P.

OTHER#S QF88-378, 014, LOCKPORT ENERGY ASSOCIATES, L.P.

CAE-46.

OMITTED

CAE-47.

OMITTED

CAE-48.

OMITTED

CAE-49.

OMITTED

CAE-50.

DOCKET# EL00-66, 001, LOUISIANA PUBLIC SERVICE COMMISSION AND THE COUNCIL OF THE CITY OF NEW ORLEANS V. ENTERGY CORPORATION, ENTERY SERVICES, INC., ENTERGY ARKANSAS, INC., ENTERGY LOUISIANA, INC., ENTERGY MISSISSIPPI, INC., ENTERGY NEW ORLEANS, INC. AND ENTERGY GULF STATES, INC.

OTHER#S EL95-33, 003, LOUISIANA PUBLIC SERVICE COMMISSION V. ENTERGY SERVICES, INC.

ER00-2854, 002, LOUISIANA PUBLIC SERVICE COMMISSION AND THE COUNCIL OF THE CITY OF NEW ORLEANS V. ENTERGY CORPORATION, ENTERY SERVICES, INC., ENTERGY ARKANSAS, INC., ENTERGY LOUISIANA, INC., ENTERGY MISSISSIPPI, INC., ENTERGY NEW ORLEANS, INC. AND ENTERGY GULF STATES, INC.

CAE-51.

DOCKET# EL01-20, 001, CITIZENS UTILITIES COMPANY

OTHER#S OA96-184, 006, CITIZENS UTILITIES COMPANY

CAE-52.

DOCKET# ER01-2076, 000, NEW YORK INDEPENDENT SYSTEM OPERATOR, INC.

Consent Agenda—Markets, Tariffs and Rates—Gas

CAG-1.

DOCKET# GT01-25, 000, ANR PIPELINE COMPANY

CAG-2.

DOCKET# RP01-432, 000, COLUMBIA GAS TRANSMISSION CORPORATION

CAG-3.

DOCKET# RP01-438, 000, KINDER MORGAN INTERSTATE GAS TRANSMISSION LLC

OTHER#S RP01-438, 001, KINDER MORGAN INTERSTATE GAS TRANSMISSION LLC

CAG-4.

OMITTED

CAG-5.

DOCKET# RP01-440, 000, KERN RIVER GAS TRANSMISSION COMPANY

CAG-6.

DOCKET# RP99-518, 022, PG&E GAS TRANSMISSION, NORTHWEST CORPORATION

OTHER#S RP99-518, 019, PG&E GAS TRANSMISSION, NORTHWEST CORPORATION

RP99-518, 020, PG&E GAS TRANSMISSION, NORTHWEST CORPORATION

RP99-518, 021, PG&E GAS TRANSMISSION, NORTHWEST CORPORATION

CAG-7.

DOCKET# RP01-443, 000, DISCOVERY GAS TRANSMISSION LLC

CAG-8.

DOCKET# RP01-441, 000, COLORADO INTERSTATE GAS COMPANY

CAG-9.

DOCKET# RP01-442, 000, ANR PIPELINE COMPANY

CAG-10.

DOCKET# RP98-44, 005, EL PASO NATURAL GAS COMPANY

OTHER#S GP98-38, 000, VASTAR GAS MARKETING, INC. AND ATLANTIC RICHFIELD COMPANY

CAG-11.

DOCKET# RP01-94, 000, NORTHWEST PIPELINE CORPORATION

CAG-12.

OMITTED

CAG-13.

DOCKET# RP00-347, 000, CANYON CREEK COMPRESSION COMPANY

OTHER#S RP00-625, 000, CANYON CREEK COMPRESSION COMPANY

CAG-14.

DOCKET# RP00-390, 000, GRANITE STATE GAS TRANSMISSION, INC.

OTHER#S RP01-58, 000, GRANITE STATE GAS TRANSMISSION, INC.

RP01-58, 001, GRANITE STATE GAS TRANSMISSION, INC.

CAG-15.

DOCKET# RP00-485, 000, STEUBEN GAS STORAGE COMPANY

CAG-16.

DOCKET# RP01-444, 000, TENNESSEE GAS PIPELINE COMPANY

CAG-17.

OMITTED

CAG-18.

OMITTED

CAG-19.

OMITTED

CAG-20.

DOCKET# RP01-225, 003, GULF SOUTH PIPELINE COMPANY, LP

CAG-21.

DOCKET# RP01-359, 001, DOMINION TRANSMISSION, INC.

CAG-22.

DOCKET# RP01-314, 002, WILLISTON BASIN INTERSTATE PIPELINE COMPANY

CAG-23.

DOCKET# RP01-292, 002, MISSISSIPPI RIVER TRANSMISSION CORPORATION

CAG-24.

DOCKET# RP00-632, 001, DOMINION TRANSMISSION, INC.

OTHER#S RP00-632, 000, DOMINION TRANSMISSION, INC.

CAG-25.

DOCKET# RP00-514, 001, SOUTHERN NATURAL GAS COMPANY

OTHER#S RP00-514, 002, SOUTHERN NATURAL GAS COMPANY

CAG-26.

DOCKET# RP00-209, 002, TRANSCONTINENTAL GAS PIPE LINE CORPORATION

CAG-27.

DOCKET# RP01-317, 002, RELIANT ENERGY GAS TRANSMISSION COMPANY

OTHER#S RP01-317, 001, RELIANT ENERGY GAS TRANSMISSION COMPANY

CAG-28.

DOCKET# RP01-200, 000, COLORADO INTERSTATE GAS COMPANY

OTHER#S RP01-350, 000, COLORADO INTERSTATE GAS COMPANY

CAG-29.

DOCKET# MG98-8, 002, TUSCARORA GAS TRANSMISSION COMPANY

CAG-30.

DOCKET# MG01-12, 001, ALLIANCE PIPELINE L.P.

CAG-31.

DOCKET# RP01-439, 000, EASTERN SHORE NATURAL GAS COMPANY

CAG-32.

DOCKET# PR99-18, 000, NORTHERN ILLINOIS GAS COMPANY

OTHER#S CP92-481, 000, NORTHERN ILLINOIS GAS COMPANY

PR99-18, 001, NORTHERN ILLINOIS GAS COMPANY

CAG-33.

DOCKET# RP01-437, 000, CHANDELEUR PIPE LINE COMPANY

Consent Agenda—Energy Projects—Hydro

CAH-1.

DOCKET# P-2016, 051, CITY OF TACOMA, WASHINGTON

OTHER#S P-553, 128, CITY OF SEATTLE, WASHINGTON

P-1417, 102, THE CENTRAL NEBRASKA PUBLIC POWER AND IRRIGATION DISTRICT

P-1862, 089, CITY OF TACOMA, WASHINGTON

P-2000, 034, NEW YORK POWER AUTHORITY

P-2144, 028, CITY OF SEATTLE, WASHINGTON

P-2149, 095, PUBLIC UTILITY DISTRICT NO. 1 OF DOUGLAS COUNTY, WASHINGTON

P-2216, 052, NEW YORK POWER AUTHORITY

P-2685, 014, NEW YORK POWER AUTHORITY

P-2705, 026, CITY OF SEATTLE, WASHINGTON

P-2959, 108, CITY OF SEATTLE, WASHINGTON

P-6842, 129, CITIES OF ABERDEEN AND TACOMA, WASHINGTON

P-10551, 088, CITY OF OSWEGO, NEW YORK

CAH-2.

DOCKET# P-10482, 045, WOODSTONE LAKES DEVELOPMENT, LLC AND WOODSTONE TORONTO DEVELOPMENT, LLC V. SOUTHERN ENERGY NY-GEN, L.L.C.

CAH-3.

DOCKET# P-18, 064, IDAHO POWER COMPANY

CAH-4.

DOCKET# P-2899, 102, IDAHO POWER COMPANY

CAH-5.

DOCKET# P-3218, 039, CITY OF ORRVILLE, OHIO

OTHER#S P-6901, 047, CITY OF NEW MARTINSVILLE, WEST VIRGINIA

P-6902, 060, CITY OF NEW MARTINSVILLE, WEST VIRGINIA

CAH-6.

OMITTED

CAH-7.

DOCKET# P-1267, 046, GREENWOOD COUNTY, SOUTH CAROLINA

CAH-8.

DOCKET# P-2622, 007, INTERNATIONAL PAPER COMPANY AND TURNERS FALLS HYDRO LLC

CAH-9.

DOCKET# P-2471, 005, WISCONSIN ELECTRIC POWER COMPANY

Consent Agenda—Energy Projects—Certificates

CAC-1.

DOCKET# CP01-93, 000, TEXAS GAS TRANSMISSION CORPORATION AND FOREST OIL CORPORATION

CAC-2.

DOCKET# CP01-17, 001, ALGONQUIN GAS TRANSMISSION COMPANY

CAC-3.

OMITTED

CAC-4.

DOCKET# CP00-391, 000, ANR PIPELINE COMPANY

CAC-5.

OMITTED

CAC-6.

OMITTED

CAC-7.

DOCKET# CP01-90, 000, EL PASO NATURAL GAS COMPANY

Energy Projects—Hydro Agenda

H-1.

RESERVED

Energy Projects—Certificates Agenda

C-1.

RESERVED

Markets, Tariffs and Rates—Electric Agenda

E-1.

RESERVED

Markets, Tariffs and Rates—Gas Agenda

G-1.

RESERVED

David P. Boergers,
Secretary.

[FR Doc. 01-15962 Filed 6-21-01; 10:56 am]

BILLING CODE 6717-01-P